DEPARTMENT OF COMMERCE

International Trade Administration

Notice of Scope Rulings

AGENCY: Enforcement and Compliance, Formerly Import Administration, International Trade Administration, Department of Commerce.

DATES: Effective Date: February 3, 2014.

SUMMARY: The Department of Commerce (“Department”) hereby publishes a list of scope rulings and anticircumvention determinations made between July 1, 2013, and September 30, 2013. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:;

Background

The Department's regulations provide that the Secretary will publish in the Federal Register a list of scope rulings on a quarterly basis.¹ Our most recent notification of scope rulings was published on September 27, 2013.² This current notice covers all scope rulings and anticircumvention determinations made by Enforcement and Compliance between July 1, 2013, and September 30, 2013, inclusive. As described below, subsequent lists will follow after the close of each calendar quarter.

¹ See 19 CFR 351.225(o).

² See Notice of Scope Rulings, 78 FR 59653 (September 27, 2013).

Scope Rulings Made Between July 1, 2013, and September 30, 2013

Italy

A-475-818 and C-475-819: Certain Pasta From Italy

Requestor: Valdigrano di Flavio Pagani S.r.L (Valdigrano); Valdigrano's product made from dough that contains 2.5 percent egg white, by weight, is within the scope of the antidumping and countervailing duty orders because Valigrano's product contains less than two percent egg white content; July 18, 2013.

A-475-703: Granular Polytetrafluoroethylene Resin From Italy

Requestor: Industrial Plastics and Machine, Inc.; certain granular polytetrafluoroethylene resin products that are processed in Italy using raw unfilled granular polytetrafluoroethylene resin from Russia or the People's Republic of China, and in some cases also processed using glass fiber from Japan, are outside the scope of the antidumping duty order because record evidence indicates that these products do not undergo substantial transformation in Italy; July 17, 2013.

People's Republic of China

A-570-967 and C-570-968: Aluminum Extrusions From the People's Republic of China

Requestor: Port-A-Cool LLC.; Port-A-Cool's Cyclone-model-specific louver assemblies are outside the scope of the order because the louvers in question, as imported, each contain all of the components of a louver (including non-aluminum extrusion parts) permanently assembled, completed, and ready for use. Moreover, the louvers are a complementary finished product that work in conjunction with the Cyclone air cooling system to direct airflow, but are not essential to the air cooling system itself; September 9, 2013.

A-570-967 and C-570-968: Aluminum Extrusions From the People's Republic of China

Requestor: Law St. Enterprises, LLC.; its disappearing screens are within the scope of the antidumping and countervailing duty orders because they are composed of covered aluminum extrusions and further do not meet the exclusion for finished goods kits because they do not enter the United States as a packaged combination of parts to fully assemble a disappearing screen; September 12, 2013.

A-570-909: Certain Steel Nails From the People's Republic of China

Requestor: Cobra Anchors Co. Ltd.; zinc anchors are within the scope of the antidumping duty order under k(1) because the record reflects that the International Trade Commission included zinc anchors as an example of the product covered by the original investigation; September 19, 2013.

A-570-979 and C-570-980: Crystalline Silicon Photovoltaic Cells, Whether or Not Assembled Into Modules, From the People's Republic of China

Requestor: OYAMA Life Impact Energy Co. Ltd.; solar cells in the OY340-XA Hybrid Solar Tablet Charger are within the scope of the antidumping duty and countervailing duty orders because the device does not meet the requirements of the exclusionary language in the scope; July 24, 2013.

A-570-866: Folding Gift Boxes From the People's Republic of China

Requestor: Procter & Gamble Inc.; Gucci brand gift boxes are not within the scope of the antidumping duty order as they meet the thickness exclusion language; August 19, 2013.

A-570-891: Hand Trucks and Certain Parts Thereof From the People's Republic of China

Requestor: Welcom Products; the MC2 Elite Magna Cart is not within the scope of the antidumping duty order because it is indistinguishable from the MC2 Magna Cart that had been previously found outside the order; September 4, 2013.

A-570-822: Helical Spring Lock Washers From the People's Republic of China

Requestor: United Steel and Fasteners, Inc.; AREMA washers imported by United Steel and Fasteners, Inc. are within the scope of antidumping duty order because the design of the AREMA washers facilitates the same functionality characteristics of helical spring lock washers as described by the scope of the order; July 10, 2013.

A-570-504: Petroleum Wax Candles From the People's Republic of China

Requestor: Jay Import Company, Inc.; The goat candle is not within the scope of the antidumping duty order (“Order”) because it is shaped like an animal and thus, meets the exclusion for figurine candles, while the four cherub candles are within the scope of the Order, because the only candle exclusions are for birthday or birthday numeral, figurine and utility candles, and these are not birthday numeral, figurine, or utility candles as determined by the Department of Commerce; August 27, 2013.

A-570-964: Seamless Refined Copper Pipe and Tube From the People's Republic of China

Requestor: Luvata Tube (Zhongshan) Ltd.; Certain Luvata's Unilloy tubes (by model number) are outside the scope of the PRC seamless pipe order because the nickel content of Unilloy tubes exceeds the limitations established by the definition of refined copper; September 16, 2013.

A-570-918: Steel Wire Garment Hangers From the People's Republic of China

Requester: Whitmor Inc.; space-saving lingerie and accessory hangers are outside the scope of the antidumping duty order because they are manufactured and used in manners distinct from subject merchandise. Specifically, these hangers are intended for use in the home and are not sold to dry cleaners, laundries, uniform rental services, or similar industrial operations. Moreover, the Department previously has found that hangers with unique designs similar to Whitmor Hangers renders them distinguishable in use from “in-scope merchandise” which is used for industrial laundries, uniform rental companies, dry cleaners, or to be taken away with garments from stores as described in the Petition;³ August 20, 2013.

³ See Petition for the Imposition of Antidumping Duties on Steel Wire Garment Hangers From the People's Republic of China, dated July 31, 2007 (“Petition”), at 14.

A-570-890: Wooden Bedroom Furniture From the People's Republic of China

Requestor: Dorel Home Products Group; Imagination Junior Loft Beds (fire truck and princess castle) are within the scope of the antidumping duty order because they are beds made substantially of wood; July 22, 2013.

A-570-890: Wooden Bedroom Furniture From the People's Republic of China

Requestor: Whalen Furniture Manufacturing, Inc.; modular room dividers are not within the scope of the antidumping duty order because they are similar to bookcases or wall unit systems which are excluded from the scope; August 29, 2013.

The Russian Federation

A-821-811: Solid Fertilizer Grade Ammonium Nitrate From the Russian Federation

Requestor: KCKK Mineral Fertilizer Plant, OJSC, part of the Uralchem, OJSC group of companies; a fertilizer product identified as NS 30:7 is covered by the antidumping duty order on solid fertilizer grade ammonium nitrate from the Russian Federation because it meets the physical characteristics of the merchandise subject to the order; August 6, 2013 (final).

Anticircumvention Determinations Made Between July 1, 2013, and September 30, 2013:

People's Republic of China

A-570-929: Small Diameter Graphite Electrodes From the People's Republic of China

Requestor: SGL Carbon LLC and Superior Graphite Co.; Imports from the People's Republic of China (PRC) of graphite electrodes, produced and/or exported by Sinosteel Jilin Carbon Co., Ltd. and Jilin Carbon Import & Export Company, with an actual or nominal diameter of 17 inches, and otherwise meeting the description of in-scope merchandise, constitute merchandise altered in form or appearance in such minor respects that it should be included within the scope of the order; September 16, 2013.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: January 28, 2014.
Christian Marsh,
Deputy Assistant Secretary, for Antidumping and Countervailing Duty Operations.

[FR Doc. 2014-02229 Filed 1-31-14; 8:45 am]

BILLING CODE 3510-DS-P